FEDERAL COMMUNICATIONS COMMISSION

Radio Broadcasting Services; AM or FM Proposals To Change The Community of License.

AGENCY: Federal Communications Commission.

ACTION: Notice.

SUMMARY: The following applicants filed AM or FM proposals to change the community of license: ALEXANDRA COMMUNICATIONS, INC., Station KRKZ-FM, Facility ID 189499, BPH-20120725AHL, From NETARTS, OR, To CHINOOK, WA; ALEXANDRA COMMUNICATIONS, INC., Station KTIL, Facility ID 50554, BMP-20120725AHO, From TILLAMOOK, OR, To NETARTS, OR; BIRACH BROADCASTING CORPORATION, Station NEW, Facility ID 136069, BMP-20120813ABI, From TERRE HAUTE, IN, To PEOTONE, IN; BRAHMIN BROADCASTING CORPORATION, Station KPAD, Facility ID 166006, BMPH-20111230ABO, From RAWLINS, WY, To WHEATLAND, WY; CITICASTERS LICENSES, INC., Station WOGB, Facility ID 89, BPH-20120720ACQ, From KAUKAUNA, WI, To REEDSVILLE, WI; CLEAR CHANNEL BROADCASTING LICENSES, INC., Station WQNS, Facility ID 41008, BPH-20120807ACK, From WAYNESVILLE, NC, To WOODFIN, NC; CORPORATION FOR NATIVE BROADCASTING, Station KXSW, Facility ID 171940, BPED-20120717AAL, From SISSETON, SD, To AGENCY VILLAGE, SD; CRAIN MEDIA GROUP, LLC, Station KEAZ, Facility ID 48748, BPH-20120716ADV, From HEBER SPRINGS, AR, To KENSETT, AR; DAIJ MEDIA, LLC, Station KJOZ, Facility ID 20625, BP-20120731AAA, From CONROE, TX, To FRIENDSWOOD, TX; ENTERTAINMENT MEDIA TRUST, DENNIS J.WATKINS, TRUSTEE, Station KQQZ, Facility ID 5281, BMP-20120628AAL, From FAIRVIEW HEIGHTS, IL, To DESOTO, MO; GOOD TIDINGS TRUST, INC., Station WAYR, Facility ID 24625, BP-20120724ABN, From ORANGE PARK, FL, To FLEMING ISLAND, FL; IHR EDUCATIONAL BROADCASTING, Station NEW, Facility ID 160745, BMP-20120821AAF, From MERRILL, OR, To ALTAMONT, OR; JER LICENSES, LLC, Station NEW, Facility ID 190382, BNPH-20120529ALR, From GUNNISON, CO, To DOTSERO, CO; KIERTRON, INC., Station KBRT, Facility ID 34588, BMP-20120809AAQ, From AVALON, CA, To COSTA MESA, CA; MALVERN ENTERTAINMENT CORPORATION, Station KHAN, Facility ID 164210, BPH-20120716ADT, From KENSETT, AR, To MAGNESS, AR; SYNERGY BROADCAST NORTH DAKOTA, LLC, Station KLTQ, Facility ID 164305, BPH-20120727AHW, From NEW ENGLAND, ND, To BEULAH, ND; SYNERGY BROADCAST NORTH DAKOTA, LLC, Station KQLZ, Facility ID 166059, BPH-20120727AID, From BEULAH, ND, To NEW ENGLAND, ND; THE OPP BROADCASTING CO., INC., Station WAMI-FM, Facility ID 66211, BPH-20120612ACO, From FORT DEPOSIT, AL, To OPP, AL; TRI STATE RADIO, LLC, Station KYLZ, Facility ID 170181, BPH-20120807ACF, From PAROWAN, UT, To ENOCH, UT.

DATES: The agency must receive comments on or before November 16, 2012.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2012-22753 Filed 9-14-12; 8:45 am]

BILLING CODE 6712-01-P